DEPARTMENT OF HOMELAND SECURITY

Coast Guard

[Docket No. USCG-2014-0233]

Proposed Cooperative Research and Development Agreement—Maritime Smart Phone Public Safety Answering Point Forwarding Into Rescue21

AGENCY: Coast Guard, Department of Homeland Security (“DHS”).

ACTION: Notice of availability; request for public comments.

SUMMARY: The Coast Guard announces its intent to enter into a Cooperative Research and Development Agreement (CRADA) to develop, demonstrate, evaluate, and document viable technical approaches for securely forwarding maritime-related smart phone (voice image position and text) through Next Generation/Enhanced 9-1-1 (NG 911) into the Coast Guard Rescue21 System. The Coast Guard solicits public comment on the possible nature of and participation of other parties in the proposed CRADA. The Coast Guard also invites other potential non-Federal participants, who have the interest and capability to bring similar contributions to this type of research, to consider submitting proposals for consideration in similar CRADAs.

DATES: Comments must be submitted to the online docket via http://www.regulations.gov, or reach the Docket Management Facility, on or before May 15, 2014.

Synopses of proposals regarding future, similar CRADAs must reach the Docket Management Facility on or before October 14, 2014.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice, contact Ms. Valerie M. Arris, Project Official, C4ISR Branch, U.S. Coast Guard Research and Development Center, 1 Chelsea Street, New London, CT 06320, telephone 860-271-2849, email Valerie.M.Arris@uscg.mi. For information about viewing or submitting material to the docket, call Cheryl Collins, Program Manager, Docket Operations, telephone 202-366-9826, toll free 1-800-647-5527.

SUPPLEMENTARY INFORMATION:

Public Participation and Comments

We encourage you to submit comments. Comments should be marked with docket number USCG-2014-0233 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Do not submit detailed proposals for future CRADAs to the Docket Management Facility. Potential non-Federal CRADA participants should submit these documents to the Coast Guard (see FOR FURTHER INFORMATION CONTACT).

Discussion

The Coast Guard is authorized to enter into CRADAs by the Federal Technology Transfer Act of 1986, Public Law 99-502, codified at 15 U.S.C. 3710(a); DHS Delegation No. 0160.1, para. 2.B(34). A CRADA promotes the transfer of technology to the private sector for commercial use as well as specified research or development efforts that are consistent with the mission of the Federal parties to the CRADA. The Federal party or parties agree with one or more non-Federal parties to share research resources, but the Federal party does not contribute funding.

CRADAs are not procurement contracts. Care is taken to ensure that CRADAs are not used to circumvent the contracting process. CRADAs have a specific purpose and should not be confused with other types of agreements such as procurement contracts, grants, and cooperative agreements.

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering General Dynamics for participation in this CRADA. This consideration is based on (a) their expertise, experience and interest in maritime-related smart phone NG911 (voice image position and text) forwarding, (b) their capability to provide the significant in-kind contributions required for the CRADA work and (c) their compatibility with the Coast Guard's situational awareness system(s). However, we do not wish to exclude other viable participants from this or future similar CRADAs.

This is a technology transfer/development effort. Presently, the Coast Guard has no plan to procure a maritime-related smart phone NG911 forwarding (voice image position and text) capability. Since the goal of this CRADA is to identify and investigate the advantages, disadvantages, required technology enhancements, performance, costs, and other issues associated with using maritime-related smart phone NG911 forwarding (voice image position and text) capabilities, non-Federal CRADA participants will not be excluded from any future Coast Guard procurements based solely on their participation in this CRADA.

Special consideration will be given to small business firms/consortia, and preference will be given to business units located in the U.S.

This notice is issued under the authority of 5 U.S.C. 552(a) and 15 U.S.C. 3710(a).

Dated: April 4, 2014.
Captain Alan N. Arsenault,
USCG, Commanding Officer, U.S. Coast Guard Research and Development Center.

[FR Doc. 2014-08547 Filed 4-14-14; 8:45 am]

BILLING CODE 9110-04-P